NUCLEAR REGULATORY COMMISSION

[License Nos. IW009/03 and XW015/01; Docket Nos. 11005789 and 11005149; Docket ID NRC-2017-0222]

AREVA Inc.; Import And Export License Amendment Applications

AGENCY: Nuclear Regulatory Commission.

ACTION: Import And Export License Amendment Applications; opportunity to comment, request a hearing, and petition for leave to intervene.

SUMMARY: The U.S. Nuclear Regulatory Commission (NRC) received and is considering issuing import and export license amendments, IW009/03 and XW015/01, requested by AREVA Inc., by applications submitted on August 9, 2017, and August 24, 2017. The request seeks the NRC's approval for an amendment of existing licenses to change the licensee name from AREVA NP Inc., to AREVA Inc., and approval to extend the expiration dates for these two licenses.

DATES: Submit comments by December 26, 2017. Requests for a hearing or a petition for leave to intervene must be filed by December 26, 2017.

ADDRESSES: You may submit comments by any of the following methods:

• Federal Rulemaking Web site: Go to http://www.regulations.gov and search for Docket ID NRC-2017-0222. Address questions about NRC dockets to Carol Gallagher; telephone: 301-415-3463; email: Carol.Gallagher@nrc.gov. For technical questions contact the individual listed in the FOR FURTHER INFORMATION CONTACT section of this document.

• Email comments to: Hearingdocket@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Gary Langlie, Office of International Programs, telephone: 301-287-9076, email: Gary.Langlie@nrc.gov, U.S. Nuclear Regulatory Commission, Washington, DC 20555-0001.

SUPPLEMENTARY INFORMATION:

I. Obtaining Information and Submitting Comments

A. Obtaining Information

You may obtain publicly-available information related to these import and export license amendment applications from AREVA Inc., by the following methods:

• Federal rulemaking Web site: Go to http://www.regulations.gov and search for Docket ID NRC-2017-0222.

• NRC's public Web site: Go to http://www.nrc.gov and search for IW009/03 or XW015/01, Docket No. 11005149 or 11005789, Docket ID NRC-2017-0222, ADAMS Accession Nos. ML17234A650 or ML17257A128.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The import and export license amendment applications from AREVA Inc., are available in ADAMS under Accession Nos. ML17234A650 and ML17257A128; and additional information is available in ADAMS under IW009/03 and XW015/01; and under Docket Nos. 11005149 and 11005789.

• NRC's PDR: You may examine and purchase copies of public documents at the NRC's PDR, Room O1-F21, One White Flint North, 11555 Rockville Pike, Rockville, Maryland 20852.

B. Submitting Comments

Please include Docket ID NRC-2017-0222 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

In accordance with 10 CFR 110.70(b), the NRC is noticing the receipt of import and export license amendment applications submitted by AREVA Inc. on August 9, 2017, and August 24, 2017, for the import and export of radioactive waste from Germany to the State of Washington, and the return of certain wastes to Germany. This request comes as the result of a company reorganization and name change, detailed in a 2014 letter submitted by AREVA Inc. (ML14129A013). AREVA Inc. has submitted these amendment requests to: (1) Address the company name change, (2) update the licensee point of contact, and (3) extend the expiration dates of these two licenses.

The current import license—IW009 Amendment No. 2 (ML103010568)—authorizes the import of Class A radioactive waste contaminants on combustible materials from Advanced Nuclear Fuels GmbH in Germany to Richland, Washington. In Washington, the materials will be incinerated and processed to recover uranium. The associated export license—XW015 (ML101760056)—authorizes the export of Class A radioactive waste contaminants on non-combustible material to the Advanced Nuclear Fuels GmbH facility in Germany.

The NRC is opening the opportunity for public comment and opening the opportunity to file a request for a hearing or petition for leave to intervene with respect to these proposed amendments for 30 days after publication of this notice in the Federal Register. Any request for hearing or petition for leave to intervene shall be served by the requestor or petitioner upon the applicant; the Office of the General Counsel, U.S. Nuclear Regulatory Commission, Washington, DC 20555; the Secretary, U.S. Nuclear Regulatory Commission, Washington, DC 20555; and the Executive Secretary, U.S. Department of State, Washington, DC 20520. Hearing requests and intervention petitions must include the information specified in 10 CFR 110.82(b).

A request for a hearing or petition for leave to intervene may be filed with the NRC electronically in accordance with NRC's E-Filing rule promulgated in August 2007 (72 FR 49139; August 28, 2007). Information about filing electronically is available on the NRC's public Web site at http://www.nrc.gov/site-help/e-submittals.html. To ensure timely electronic filing, at least 5 days prior to the filing deadline, the petitioner/requestor should contact the Office of the Secretary by email at hearingdocket@nrc.gov, or by calling 301-415-1677, to request a digital ID certificate and allow for the creation of an electronic docket.

The information concerning these applications for import and export license amendment follows.

NRC Import and Export License Amendment Applications
[Description of material]
Name of applicant, date of application(s), date(s) received, application no(s)., docket no(s)., ADAMS accession no(s). | Material type | Total quantity | End use | Country(ies)
AREVA Inc., August 9, 2017, August 24, 2017, August 21, 2017, September 11, 2017, IW009/03, XW015/01, 11005149, 11005789, ML17234A650, ML17256A016, ML17285A013, (Supporting e-mail) | No change in material (Class A Radioactive Waste) | No change in quantity (up to a maximum total of 36 kilograms of uranium-235 contained in 1,200 kilograms uranium enriched to 5.0 WGT% maximum) | Amend to change the licensee name and point of contact, and extend validity of the license. No other changes to the existing import and export licenses (IW009 and XW015, and subsequent amendments) are requested. IW009, and subsequent amendments, currently authorize the import of Class A Radioactive Waste contaminants on combustible materials for incineration and recovery of the contained uranium. XW015, and subsequent amendments, currently authorize the export (return) of any contaminated non-combustibles recovered to Germany | from/to Germany.

Dated at Rockville, Maryland, this 20th day of November, 2017.
For The Nuclear Regulatory Commission.
David L. Skeen,
Deputy Director, Office of International Programs.

[FR Doc. 2017-25391 Filed 11-22-17; 8:45 am]

BILLING CODE 7590-01-P